DEPARTMENT OF THE INTERIOR

National Park Service

[NPS-WASO-CONC-22109; PPWOBSADC0, PPMVSCS1Y.Y0000]

Notice of Temporary Concession Contract for Marina Operation, Food and Beverage, Retail and Campground Services in Fire Island National Seashore, New York

AGENCY: National Park Service, Interior.

ACTION: Notice.

SUMMARY: The National Park Service intends to award a temporary concession contract to a qualified person for the conduct of certain visitor services within Fire Island National Seashore for a term not to exceed 1 year. The visitor services include marina operation, food and beverage, retail and campground.

FOR FURTHER INFORMATION CONTACT: Judy Bassett, Northeast Regional Concession Chief, Northeast Region, 200 Chestnut Street, Philadelphia, PA 19106; Telephone (215) 597-4903, by email at Judy_Bassett@nps.gov.

SUPPLEMENTARY INFORMATION: The National Park Service intends to award the temporary concession contract, TC-FIIS007-17, to a qualified person (as defined in 36 CFR 51.3) that is currently operating under the existing contract. If the National Park Service is unable to reach acceptable terms, however, it may find another qualified person for the award of the temporary concession contract. The National Park Service has determined that a temporary concession contract not to exceed 1 year is necessary in order to avoid interruption of visitor services, and has taken all reasonable and appropriate steps to consider alternatives to avoid an interruption of visitor services.

Authority: This action is issued pursuant to 36 CFR 51.24(a). This is not a request for proposals.

Mike Reynolds,
Deputy Director, National Park Service.

[FR Doc. 2016-26916 Filed 11-7-16; 8:45 am]

BILLING CODE 4312-53-P